DEPARTMENT OF HOMELAND SECURITY

Federal Emergency Management Agency

[Docket ID FEMA-2021-0002; Internal Agency Docket No. FEMA-B-2148]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Hale | Town of Moundville (20-04-3557P). | The Honorable Tony Lester, Mayor, Town of Moundville, P.O. Box 98, Moundville, AL 35474. | Maps and Zoning Department, 410 Market Street, Moundville, AL 35474. | https://msc.fema.gov/portal/advanceSearch. | Jul. 8, 2021 | 100096
Hale | Unincorporated areas of Hale County (20-04-3557P). | The Honorable Arthur Crawford, Chairman, Hale County Board of Commissioners, P.O. Box 396, Greensboro, AL 36744. | Hale County Engineering and Road Department, 703 Cork Street, Greensboro, AL 36744. | https://msc.fema.gov/portal/advanceSearch. | Jul. 8, 2021 | 100094
Lee | Unincorporated areas of Lee County (21-04-2326P). | The Honorable Bill English, Chairman, Lee County Commission, P.O. Box 666, Opelika, AL 36803. | Lee County Building Inspections Department, 100 Orr Avenue, Opelika, AL36804. | https://msc.fema.gov/portal/advanceSearch. | Sep. 30, 2021 | 010250
St. Clair | Unincorporated areas of St. Clair County (21-04-2404P). | The Honorable Paul Manning, Chairman, St. Clair County Commission, 165 5th Avenue, Suite 100, Ashville, AL 35953. | St. Clair County Flood Management Department, 165 5th Avenue, Suite 100, Ashville, AL 35953. | https://msc.fema.gov/portal/advanceSearch. | Oct. 1, 2021 | 010290
Arkansas: Benton | City of Rogers (21-06-0048P). | The Honorable Greg Hines, Mayor, City of Rogers, 301 West Chestnut Street, Rogers, AR 72756. | Community Development Department, 301 West Chestnut Street, Rogers, AR 72756. | https://msc.fema.gov/portal/advanceSearch. | Oct. 4, 2021 | 050013
Colorado:
Arapahoe | City of Centennial (20-08-0871P). | The Honorable Stephanie Piko, Mayor, City of Centennial, 13133 East Arapahoe Road, Centennial, CO 80112. | Southeast Metro Stormwater Authority, 7437 South Fairplay Street, Centennial, CO 80112. | https://msc.fema.gov/portal/advanceSearch. | Oct. 8, 2021 | 080315
Broomfield | City and County of Broomfield (21-08-0022P). | The Honorable Patrick Quinn, Mayor, City and County of Broomfield, 1 DesCombes Drive, Broomfield, CO 80020. | Engineering Department, 1 DesCombes Drive, Broomfield, CO 80020. | https://msc.fema.gov/portal/advanceSearch. | Oct. 1, 2021 | 085073
Denver | City and County of Denver (20-08-0896P). | The Honorable Michael B. Hancock, Mayor, City and County of Denver, 1437 North Bannock Street, Room 350, Denver, CO 80202. | Department of Public Works, 201 West Colfax Avenue, Denver, CO 80202. | https://msc.fema.gov/portal/advanceSearch. | Sep. 3, 2021 | 080046
La Plata | City of Durango (20-08-0734P). | Mr. Jose Madrigal, City of Durango Manager, 949 East 2nd Avenue, Durango, CO 81301. | Planning Department, 1235 Camino Del Rio, Durango, CO 81301. | https://msc.fema.gov/portal/advanceSearch. | Sep. 7, 2021 | 080099
Larimer | Unincorporated areas of Larimer County (20-08-0812P). | The Honorable John Kefalas, Chairman, Larimer County Board of Commissioners, 200 West Oak Street, Suite 2200 Fort Collins, CO 80521. | Larimer County Engineering Department, 200 West Oak Street, Suite 3000, Fort Collins, CO 80521. | https://msc.fema.gov/portal/advanceSearch. | Sep. 7, 2021 | 080101
Florida:
Charlotte. | Unincorporated areas of Charlotte County (21-04-2201P). | The Honorable Bill Truex, Chairman, Charlotte County Board of Commissioners, 18500 Murdock Circle, Suite 536, Port Charlotte, FL 33948. | Charlotte County Community Development Department, 18500 Murdock Circle, Port Charlotte, FL 33948. | https://msc.fema.gov/portal/advanceSearch. | Oct. 13, 2021 | 120061
Collier | City of Naples (21-04-0422P). | The Honorable Teresa Heitmann, Mayor, City of Naples, 735 8th Street South, Naples, FL 34102. | Building Department, 295 Riverside Circle, Naples, FL 34102. | https://msc.fema.gov/portal/advanceSearch. | Sep. 7, 2021 | 125130
Lee | Unincorporated areas of Lee County (21-04-2302P). | Mr. Roger Desjarlais, Lee County Manager, 2115 2nd Street, Fort Myers, FL 33901. | Lee County Building Department, 1500 Monroe Street, Fort Myers, FL 33901. | https://msc.fema.gov/portal/advanceSearch. | Sep. 16, 2021 | 125124
Pinellas | City of Clearwater (21-04-1867P). | Mr. William Horne, City of Clearwater Manager, P.O. Box 4748, Clearwater, FL 33756. | Engineering Department, 100 South Myrtle Avenue, Suite 220, Clearwater, FL 33756. | https://msc.fema.gov/portal/advanceSearch. | Sep. 9, 2021 | 125096
Kentucky: Carroll | Unincorporated areas of Carroll County (21-04-1755P). | The Honorable Harold Tomlinson,Carroll County Executive, 440 Main Street, Carrollton, KY 41008. | Carroll County Solid Waste Department, 829 Polk Street, Carrollton, KY 41008. | https://msc.fema.gov/portal/advanceSearch. | Sep. 3, 2021 | 210045
Massachusetts: Essex | Town of Marblehead (21-01-0574P). | Mr. Jason Silva, Town of Marblehead Administrator, 188 Washington Street, Marblehead, MA 01945. | Engineering Department, 7 Widger Road, Marblehead, MA 01945. | https://msc.fema.gov/portal/advanceSearch. | Sep. 17, 2021 | 250091
Mississippi: Panola | Unincorporated areas of Panola County (21-04-2141P). | The Honorable Cole Flint, President, Panola County Board of Supervisors, 151 Public Square, Batesville, MS 38606. | Panola County Land Development Commission, 245 Eureka Street, Batesville, MS 38606. | https://msc.fema.gov/portal/advanceSearch. | Sep. 29, 2021 | 280125
New Mexico: Bernalillo | Unincorporated areas of Bernalillo County (20-06-2872P). | The Honorable Charlene E. Pyskoty, Chair, Bernalillo County Board of Commissioners, 1 Civic Plaza Northwest, Albuquerque, NM 87102. | Bernalillo County Public Works Department, 2400 Broadway Boulevard, Albuquerque, NM 87102. | https://msc.fema.gov/portal/advanceSearch. | Oct. 12, 2021 | 350001
Pennsylvania:
Lackawanna | Borough of Moosic (21-03-0726P) | The Honorable James Segilia, Mayor, Borough of Moosic, 715 Main Street, Moosic, PA 18507. | Borough Hall, 715 Main Street, Moosic, PA 18507. | https://msc.fema.gov/portal/advanceSearch. | Oct. 18, 2021 | 420533
Lackawanna | Borough of Old Forge (21-03-0726P) | The Honorable Bob Legg, Mayor, Borough of Old Forge, 310 South Main Street, Old Forge, PA 18518. | Borough Hall, 310 South Main Street, Old Forge, PA 18518. | https://msc.fema.gov/portal/advanceSearch. | Oct. 18, 2021 | 420535
Montgomery | Township of Hatfield (21-03-0243P) | Mr. Aaron Bibro, Township of Hatfield Manager, 1950 School Road, Hatfield, PA 19440. | Zoning Department, 1950 School Road, Hatfield, PA 19440. | https://msc.fema.gov/portal/advanceSearch. | Sep. 23, 2021 | 420699
Texas:
Bexar | Unincorporated areas of Bexar County (21-06-0275P). | The Honorable Nelson Wolff, Bexar County Judge, 101 West Nueva Street, 10th Floor, San Antonio, TX 78205. | Bexar County Public Works Department, 1948 Probandt Street, San Antonio, TX 78214. | https://msc.fema.gov/portal/advanceSearch. | Oct. 4, 2021 | 480035
Comal | City of Bulverde (21-06-0275P). | The Honorable Bill Krawietz, Mayor, City of Bulverde, 30360 Cougar Bend, Bulverde, TX 78163. | City Hall, 30360 Cougar Bend, Bulverde, TX 78163. | https://msc.fema.gov/portal/advanceSearch. | Oct. 4, 2021 | 481681
Comal | Unincorporated areas of Comal County (21-06-0275P). | The Honorable Sherman Krause, Comal County Judge 100 Main Plaza, New Braunfels, TX 78130. | Comal County Engineering Department, 195 David Jonas Drive, New Braunfels, TX 78132. | https://msc.fema.gov/portal/advanceSearch. | Oct. 4, 2021 | 485463
Dallas | Town of Sunnyvale (20-06-3713P). | The Honorable Saji George, Mayor, Town of Sunnyvale, 127 North Collins Road, Sunnyvale, TX 75182. | Town Hall, 127 North Collins Road, Sunnyvale, TX 75182. | https://msc.fema.gov/portal/advanceSearch. | Oct. 18, 2021 | 480188
Virginia: Albemarle | Unincorporated areas of Albemarle County (21-03-0029P). | The Honorable Ned L. Gallaway, Chairman, Albemarle County Board of Supervisors, 401 McIntire Road, Charlottesville, VA 22902. | Albemarle County Community Development Department, 401 McIntire Road, Charlottesville, VA 22902. | https://msc.fema.gov/portal/advanceSearch. | Sep. 27, 2021 | 510006

[FR Doc. 2021-14116 Filed 6-30-21; 8:45 am]

BILLING CODE 9110-12-P